DEPARTMENT OF TRANSPORTATION

Surface Transportation Board

[Docket No. FD 35674]

CSX Transportation, Inc.—Temporary Trackage Rights Exemption—Alabama Great Southern Railroad Company and Meridian Speedway, LLC

Pursuant to a written trackage rights agreement dated August 31, 2012, Alabama Great Southern Railroad Company (AGS) has agreed to grant CSX Transportation, Inc. (CSXT) temporary overhead trackage rights over: (1) AGS South District between the connection of AGS and CSXT in Birmingham, Ala., near 14th Street at milepost 143.5 and the connection with the trackage of The Kansas City Southern Railway Company (KCSR) near 27th Avenue in Meridian, Miss., at milepost 295.4; (2) AGS NO & NE District between the connection with the trackage of Meridian Speedway, LLC (Meridian Speedway) at Meridian, Miss., 27th Avenue, milepost NO-0.4, and New Orleans, La., Oliver Junction, milepost 194.1; and (3) New Orleans Terminal Back Belt Line between New Orleans, La., Oliver Junction, milepost 7.9-NT, and East City Junction at milepost 3.8-NT and between East City Junction at milepost 3.5-A and CN/IC connection in Shrewsbury, La., milepost 0.0-A, a distance of 352.8 miles. Pursuant to a second written trackage rights agreement, Meridian Speedway has agreed to grant CSXT temporary overhead trackage rights over the connection between AGS and Meridian Speedway near 27th Avenue in Meridian, Miss., at milepost 295.4 and the connection between Meridian Speedway and AGS NO & NE District at milepost NO-0.4, a distance of 0.4 miles. The lines in question total 353.2 miles of track.

CSXT explains that the temporary trackage rights will permit it to resume overhead rail service between Pascagoula, Miss., and New Orleans, La., in the aftermath of Hurricane Isaac. CSXT states that as a result of Hurricane Isaac, portions of its track along the Gulf Coast have been damaged and put out of service between Pascagoula, Miss., and New Orleans, La., and CSXT does not expect the line to be operable in the immediate future.

In addition to this verified notice of exemption, CSXT concurrently filed a petition requesting that the Board waive the requirement of 49 CFR 1180.4(g) so that the exemption could become effective immediately. By decision served September 7, 2012, the Board granted CSXT's request. As a result, this exemption is now effective and will expire on December 16, 2012.

As a condition to this exemption, any employees affected by the temporary trackage rights will be protected by the conditions imposed in Norfolk and Western Railway—Trackage Rights—Burlington Northern, 354 I.C.C. 605 (1978), as modified in Mendocino Coast Railway—Lease and Operate—California Western Railroad, 360 I.C.C. 653 (1980) (N&W), and any employees affected by the discontinuance of those trackage rights will be protected by the conditions set out in Oregon Short Line Railroad—Abandonment Portion Goshen Branch Between Firth and Ammon, in Bingham and Bonneville Counties, Idaho, 360 I.C.C. 91 (1979). Because of the nature of the situation, CSXT reports that the unions representing employees of CSXT and AGS have agreed to waive the 20-day notice period under N&W before consummation so that operations may start upon the effective date of this exemption.

This notice is filed under 49 CFR 1180.2(d)(8). If it contains false or misleading information, the exemption is void ab initio. Petitions to revoke the exemption under 49 U.S.C. 10502(d) may be filed at any time. The filing of a petition to revoke will not automatically stay the effectiveness of the exemption.

An original and 10 copies of all pleadings, referring to Docket No. FD 35674, must be filed with the Surface Transportation Board, 395 E Street, SW., Washington, DC 20423-0001. In addition, a copy of each pleading must be served on Louis E. Gitomer, Law Offices of Louis E. Gitomer, 600 Baltimore Avenue, Suite 301, Towson, MD 21204.

Board decisions and notices are available on our Web site at www.stb.dot.gov.

Decided: September 7, 2012.
By the Board, Rachel D. Campbell, Director, Office of Proceedings.
Jeffrey Herzig,
Clearance Clerk.

[FR Doc. 2012-22448 Filed 9-11-12; 8:45 am]

BILLING CODE 4915-01-P